DEPARTMENT OF TRANSPORTATION

Office of the Secretary

Notice of Applications for Certificates of Public Convenience and Necessity and Foreign Air Carrier Permits Filed Under Subpart B (formerly Subpart Q) During the Week Ending March 23, 2001

The following Applications for Certificates of Public Convenience and Necessity and Foreign Air Carrier Permits were filed under subpart B (formerly subpart Q) of the Department of Transportation's Procedural Regulations (See 14 CFR 301.201 et seq.). The due date for Answers, Conforming Applications, or Motions to Modify Scope are set forth below for each application. Following the Answer period, DOT may process the application by expedited procedures. Such procedures may consist of the adoption of a show-cause order, a tentative order, or in appropriate cases a final order without further proceedings.

Docket Number: OST-1995-477

Date Filed: March 20, 2001

Due Date for Answers, Conforming Applications, or Motion to Modify Scope: April 10, 2001.

Description: Application of L.B. Limited (“LB”), pursuant to 49 U.S.C. 41301, et seq.14 CFR 211.21 requesting renewal of its foreign air carrier permit, authorizing LB to engage in (a) scheduled foreign air transportation of persons, property and mail as follows: 1. Between Freeport, The Bahamas, and the coterminal points Baltimore, MD/Washington, DC; Birmingham, AL; Chicago, IL; Cincinnati, OH; Cleveland, OH; Detroit, MI; Fort Lauderdale, FL; Greenville/Spartanburg, SC; Hartford, CT; Jacksonville, FL; Memphis, TN; Miami, FL; Nashville, TN; New Orleans, LA; New York, NY; Orlando, FL; Philadelphia, PA; Raleigh-Durham, NC; Richmond, VA; Tampa, FL; and West Palm Beach, FL; and, 2. Between Nassau, The Bahamas, and the coterminal points Baltimore, MD/Washington, DC; Chicago, IL; Cincinnati, OH; Cleveland, OH; Fort Lauderdale, FL; Hartford, CT; Miami, FL; Nashville, TN; New Orleans, LA; New York, NY; Orlando, FL; Philadelphia, PA; Raleigh-Durham, NC; Richmond, VA; and West Palm Beach, FL; and (b) charters pursuant to 14 CFR 212 of the Department's regulations.

Docket Number: OST-2001-9214

Date Filed: March 20, 2001

Due Date for Answers, Conforming Applications, or Motion to Modify Scope: April 10, 2001

Description: Application of Air Florida Express, Inc. d/b/a Air Florida pursuant to 49 U.S.C. section 41738 and subpart B, requesting authority to operate scheduled passenger service as a commuter air carrier between Fort Lauderdale Hollywood International Airport and Marathon Airport in Florida.

Dorothy Y. Beard,
Federal Register Liaison.

[FR Doc. 01-8760 Filed 4-9-01; 8:45 am]

BILLING CODE 4910-62-P